DEPARTMENT OF HOMELAND SECURITY

Federal Emergency Management Agency

[Docket ID FEMA-2021-0002; Internal Agency Docket No. FEMA-B-2131]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before August 23, 2021.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2131, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Washington County, Arkansas and Incorporated Areas
Project: 20-06-0069S Preliminary Date: December 17, 2020
City of Elkins | City Hall, 1874 Stokenbury Road, Elkins, AR 72727.
City of Elm Springs | City Hall, 289 Jayroe Avenue, Elm Springs, AR 72728.
City of Farmington | City Hall, 354 West Main Street, Farmington, AR 72730.
City of Fayetteville | Development Services Building, 125 West Mountain Street, Fayetteville, AR 72701.
City of Goshen | City Hall, 124 Church Street, Goshen, AR 72735.
City of Greenland | City Hall, 8 East Ross Street, Greenland, AR 72701.
City of Johnson | City Hall, 2904 Main Drive, Johnson, AR 72704.
City of Lincoln | City Hall, 101 East Bean Street, Lincoln, AR 72744.
City of Prairie Grove | City Hall, 975 East Douglas Street, Prairie Grove, AR 72753.
City of Springdale | Engineering Department, 269 East Randall Wobbe Lane, Springdale, AR 72764.
City of Tontitown | Tontitown City Hall, 235 East Henri De Tonti Boulevard, Springdale, AR 72762.
City of West Fork | City Hall, 164 North Centennial Avenue, West Fork, AR 72774.
City of Winslow | City Hall, 108 North Winslow Boulevard, Winslow, AR 72959.
Unincorporated Areas of Washington County | Washington County Planning Department, 2615 South Brink Drive, Fayetteville, AR 72701.
Athens-Clarke County, Georgia (All Jurisdictions)
Project: 18-04-0003S Preliminary Date: July 29, 2020
Athens-Clarke County | Athens-Clarke County Planning Department Building, 120 West Dougherty Street, Athens, GA 30601.
City of Winterville | City Hall, 125 North Church Street, Winterville, GA 30683.
Oconee County, Georgia and Incorporated Areas
Project: 18-04-0003S Preliminary Date: July 29, 2020
City of Watkinsville | City Hall, 191 VFW Drive, Watkinsville, GA 30677.
Town of North High Shoals | North High Shoals Town Hall, 260 Hillsboro Road, Bishop, GA 30621.
Unincorporated Areas of Oconee County | Oconee County Code Enforcement, 1291 Greensboro Highway, Room A108, Watkinsville, GA 30677.
Baltimore County, Maryland (Unincorporated Areas)
Project: 11-03-2204S Preliminary Date: August 12, 2020
Unincorporated Areas of Baltimore County | Baltimore County Office Building, 111 West Chesapeake Avenue, Room 205, Towson, MD 21204.
Washington County, Mississippi and Incorporated Areas
Project: 20-04-0045S Preliminary Date: December 30, 2020
City of Greenville | City Hall, Planning Department, 340 Main Street, Greenville, MS 38701.
Unincorporated Areas of Washington County | Washington County Planning Department, 900 Washington Avenue, Greenville, MS 38701.

[FR Doc. 2021-10901 Filed 5-21-21; 8:45 am]

BILLING CODE 9110-12-P